SMALL BUSINESS ADMINISTRATION

[Declaration of Disaster #P041]

State of California

As a result of the President's major disaster declaration for Public Assistance on June 30, 2004, the U.S. Small Business Administration is activating its disaster loan program only for private non-profit organizations that provide essential services of a governmental nature. I find that San Joaquin County in the State of California constitutes a disaster area due to damages caused by flooding as a result of a levee break occurring on June 3, 2004, and continuing. Applications for loans for physical damage as a result of this disaster may be filed until the close of business on August 30, 2004, at the address listed below or other locally announced locations: U.S. Small Business Administration, Disaster Area 4 Office, P.O. Box 419004, Sacramento, CA 95841-9004.

The interest rates are:

| Percent
For Physical Damage:
Non-profit organizations without credit available elsewhere | 2.750
Non-profit organizations with credit available elsewhere | 4.875

The number assigned to this disaster for physical damage is P04106.

(Catalog of Federal Domestic Assistance Program Nos. 59008).

Dated: July 2, 2004.
Cheri L. Cannon,
Acting Associate Administrator for Disaster Assistance.

[FR Doc. 04-15633 Filed 7-8-04; 8:45 am]

BILLING CODE 8025-01-P